NUCLEAR REGULATORY COMMISSION

NUREG-1717, Systematic Radiological Assessment of Exemptions for Source and Byproduct Materials

The Nuclear Regulatory Commission has issued draft NUREG-1717, “Systematic Radiological Assessment of Exemptions for Source and Byproduct Materials.” This report is an assessment of potential radiation doses associated with the current exemptions for byproduct and source material in Title 10, of the Code of Federal Regulations (CFR). Doses were estimated for the normal life cycle of a particular product or material, covering distribution and transport, intended or expected routine use, and disposal using dose assessment methods consistent with the current requirements in 10 CFR Part 20. In addition, assessments of potential doses due to accidents and misuse were estimated. Also presented is an assessment of potential radiological impacts associated with selected products containing byproduct material that currently may only be used under a general license and may be potential candidates for exemption from licensing requirements.

Licensees, Agreement States and all other interested parties are encouraged to submit comments and relevant data on this report. Comments and suggestions on this NUREG should be submitted by June 30, 2000, to assist the staff in developing the final NUREG-1717. Comments may be submitted in writing directly to David L. Meyer, Chief, Rules and Directives Branch, Office of Administration, U.S. Nuclear Regulatory Commission, T-6 D-59, Washington, DC 20555-0001, or hand-delivered to 11545 Rockville Pike, Rockville, MD between 7:30 a.m. and 4:15 p.m. on Federal workdays. Comments may also be submitted while viewing this report on the Internet at the following URL: http://www.nrc.gov/NRC/NUREGS/SR1717/DRAFT/index.html.

Issued NUREGs may be purchased from both the Government Printing Office (GPO) and the National Technical Information Service (NTIS). Details on this service may be obtained by writing either the GPO at The Superintendent of Documents, U.S. Government Printing Office, P.O. Box 37082, Washington, DC 20402-9328 or the NTIS, 5285 Port Royal Road, Springfield, VA 22161. NUREGs are not copyrighted, and Commission approval is not required to reproduce them.

Dated at Rockville, Maryland, this 11th day of January 2000.
For the Nuclear Regulatory Commission.
Thomas L. King,
Director, Division of Risk Analysis and Applications, Office of Nuclear Regulatory Research.

[FR Doc. 00-1302 Filed 1-19-00; 8:45 am]

BILLIING CODE 7590-01-P